DEPARTMENT OF COMMERCE

International Trade Administration

[A-602-808]

Silicomanganese From Australia: Postponement of Preliminary Determination of Antidumping Duty Investigation

AGENCY: Enforcement and Compliance, International Trade Administration, Department of Commerce.

DATES: Effective date June 19, 2015.

FOR FURTHER INFORMATION CONTACT: Magd Zalok at (202) 482-4162 or Robert Bolling at (202) 482-3434, AD/CVD Operations, Enforcement and Compliance, U.S. Department of Commerce, 14th Street and Constitution Avenue NW., Washington, DC 20230.

SUPPLEMENTARY INFORMATION:

Background

On March 17, 2015, the Department of Commerce (the Department) published a notice of initiation of antidumping duty investigation of silicomanganese from Australia.¹ The notice of initiation stated that the Department, in accordance with section 733(b)(1)(A) of the Tariff Act of 1930, as amended (the “Act”), and 19 CFR 351.205(b)(1), would issue its preliminary determinations for these investigations, unless postponed, no later than 140 days after the date of the initiation. The preliminary determination of this antidumping duty investigation is currently due no later than July 29, 2015.

¹ See Silicomanganese From Australia: Initiation of Less-Than-Fair-Value Investigation, 80 FR 13829 (March 17, 2015).

Postponement of Preliminary Determinations

Section 733(c)(1)(A) of the Act permits the Department to postpone the time limits for the preliminary determination if it receives a timely request from the petitioner for postponement. The Department may postpone the preliminary determination under section 733(c)(1) of the Act no later than the 190th day after the date on which the administering authority initiates an investigation.

On June 8, 2015, Felman Production, LLC (“Petitioner”) and Eramet Marietta, Inc., collectively Domestic Producers, made a timely request pursuant to section 733(c)(1) of the Act and 19 CFR 351.205(e) for postponement of the preliminary determination in this investigation. Petitioner requested a 50-day postponement of the preliminary determination in order to allow the Department additional time to review the questionnaire responses and issue appropriate requests for clarification and additional information, given the complexity of this investigation. Petitioner submitted a request for postponement of the preliminary determination more than 25 days before the scheduled date of the preliminary determination. See 19 CFR 351.205(e).

Because Petitioner's request was timely and provided reasons for the request, and since the Department finds no compelling reasons to deny the request, the Department is postponing the deadline for the preliminary determination in accordance with section 733(c)(1)(A) of the Act and 19 CFR 351.205(b)(2) and (e) by 50 days to September 17, 2015. The deadline for the final determination will continue to be 75 days after the date of the preliminary determination unless postponed at a later date.

This notice is issued and published pursuant to section 733(c)(2) of the Act and 19 CFR 351.205(f)(1).

Dated: June 12, 2015.
Paul Piquado,
Assistant Secretary for Enforcement and Compliance.

[FR Doc. 2015-15150 Filed 6-18-15; 8:45 am]

BILLING CODE 3510-DS-P